DEPARTMENT OF ENERGY

Federal Energy Regulatory Commission

[Docket No. EC03-23-000, et al.]

Westar Energy, Inc., et al.; Electric Rate and Corporate Filings

December 2, 2002.

The following filings have been made with the Commission. The filings are listed in ascending order within each docket classification.

1. Westar Energy, Inc. and Midwest Energy, Inc.

[Docket No. EC03-23-000]

Take notice that on November 25, 2002, Westar Energy, Inc. (Westar Energy) and Midwest Energy, Inc. (Midwest Energy) jointly filed an application with the Federal Energy Regulatory Commission (Commission) pursuant to Section 203 of the Federal Power Act, 16 U.S.C. 824b, and part 33 of the Commission regulations, 18 CFR part 33. Westar Energy and Midwest Energy request authorization and approval of the sale by Westar Energy and the purchase by Midwest Energy of certain jurisdictional transmission assets located in the State of Kansas, and assignment of certain wholesale power sales and transmission contracts.

Comment Date: December 16, 2002.

2. SOWEGA Power LLC, Baconton Power LLC

[Docket No. ER99-3427-002 and ER00-2398-004]

Take notice that on November 25, 2002, Baconton Power LLC and SOWEGA Power LLC tendered for filing with the Federal Energy Regulatory Commission (Commission) a combined three-year updated market analysis related to their existing market-based rate approvals consistent with the Commission's orders in the above referenced dockets.

Comment Date: December 16, 2002.

3. Mt. Carmel Public Utility Co.

[Docket No. ER02-2293-002]

Take notice that on November 25, 2002, Mt. Carmel Public Utility Co. (Mt. Carmel) tendered for filing with the Federal Energy Regulatory Commission (Commission) executed Service and Operating Agreements between Mt. Carmel and Central Illinois Public Service Co. (dba Ameren/CIPS). Mt. Carmel asserts that the purpose of the Agreement is to permit Mt. Carmel to provide transmission service to Ameren/CIPS pursuant to Mt. Carmel's Open Access Transmission Tariff.

Comment Date: December 16, 2002.

4. California Independent System Operator Corporation

[Docket Nos. ER02-2576-003 and ER02-1656-013]

Take notice that on November 25, 2002, the California Independent System Operator Corporation (ISO) tendered for filing with the Federal Energy Regulatory Commission (Commission) a compliance filing made in compliance with the Commission's October 25, 2002 “Order on Proposed Tariff Revisions and Compliance Filing.” The compliance filing revises Section 2.2.13.1 of the ISO's Tariff, in accordance with the October 25 Order.

The ISO states that this filing has been served on all entities that are on the official service list for this docket.

Comment Date: December 16, 2002.

Standard Paragraph

Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-31187 Filed 12-10-02; 8:45 am]

BILLING CODE 6717-01-P